DEPARTMENT OF TRANSPORTATION

Federal Aviation Administration

Sixteenth Meeting: RTCA Special Committee 222, Inmarsat AMS(R)S

AGENCY: Federal Aviation Administration (FAA), U.S. Department of Transportation (DOT).

ACTION: Meeting Notice of RTCA Special Committee 222, Inmarsat AMS(R)S.

SUMMARY: The FAA is issuing this notice to advise the public of the sixteenth meeting of the RTCA Special Committee 222, Inmarsat AMS(R)S. The purpose of this meeting is to resolve comments received during the FRAC process on the SwiftBroadband Appendix to DO-262(B) and the updated Iridium Appendix to DO-262(B).

DATES: The meeting will be held April 25, 2014 from 9:00 a.m.-5:00 p.m.

ADDRESSES: RTCA Headquarters, 1150 18th St. NW., Suite 910, Washington DC 20036. This meeting is expected to be largely virtual, conducted over Webex with a telephone bridge. Dr. LaBerge and Mr. Robinson will be present at RTCA. Those who plan to attend in person at the RTCA offices should notify Jennifer Iversen by April 11, 2014 to assure that appropriate space is reserved. Please contact Jennifer Iversen (jiversen@rtca.org) if you intent to attend in person or remotely.

FOR FURTHER INFORMATION CONTACT: Jennifer Iversen may be contacted directly at email: jiversen@rtca.org or by The RTCA Secretariat, 1150 18th Street NW., Suite 910, Washington, DC 20036, or by telephone at (202) 330-0662/(202) 833-9339, fax (202) 833-9434, or Web site at http://www.rtca.org.

SUPPLEMENTARY INFORMATION: Pursuant to section 10(a)(2) of the Federal Advisory Committee Act (Pub. L. 92-463, 5 U.S.C., App.), notice is hereby given for a meeting of Special Committee 222. The agenda will include the following:

April 25, 2014

• Greetings & Attendance.

• Review summary of February meetings (15th Plenary).

• Resolve FRAC comments on SwiftBroadband material.

• Resolve FRAC comments on Iridium material.

• Discuss Change 4 to DO-210D and approve for FRAC, if appropriate.

• Other items as appropriate and time permitting. Please submit other items to Chuck LaBerge (laberge.engineering@gmail.com) by April 11.

• Schedule for 17th Plenary. The 17th Plenary session will be for the purpose of resolving any comments received during the FRAC process for Change 4 to DO-210D.

• Adjourn.

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC, on April 2, 2014.
Paige Williams,
Management Analyst, NextGen, Business Operations Group, Federal Aviation Administration.

[FR Doc. 2014-07904 Filed 4-8-14; 8:45 am]

BILLING CODE 4910-13-P